DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2001, there were four applications approved. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Fort Dodge Airport Commission, Fort Dodge, Iowa.

Application Number: 01-03-C-00-FOD.

Application Type: Impose and use a PFC.

PFC Level: $4.50.

Total PFC Revenue Approved in this Decision: $284,903.

Earliest Charge Effective Date: January 1, 2002.

Estimated Charge Expiration Date: April 1, 2008.

Class of Air Carriers Not Required to Collect PFC's: Those air carriers operating under part 135 air taxi/commercial operators filing FAA Form 1800-31.

Determination: Approved. Based on information contained in the public agency's application, the FAA has determined that the approved class accounts for less than 1 percent of the total annual enplanements at Fort Dodge Regional Airport.

Brief Description of Projects Approved for Collection and Use:

Reconstruct taxiways A and C.

Runway protection zone land, acquisition and relocation.

Decision Date: December 3, 2001.

FOR FURTHER INFORMATION CONTACT: Lorna Sandridge, Central Region Airports Division, (816) 329-2641.

Public Agency: Great Falls International Airport Authority, Great Falls, Montana.

Application Number: 01-03-C-00-GTF.

Application Type: Impose and use a PFC.

PFC Level: $4.50.

Total PFC Revenue Approved in This Decision: $8,481,340.

Earliest Charge Effective Date: July 1, 2002.

Estimated Charge Expiration Date: September 1, 2018.

Class of Air Carriers Not Required to Collect PFC'S: On demand non-scheduled air taxi/commercial operators filing FAA Form 1800-31.

Determination: Approved. Based on information contained in the public agency's application, the FAA has determined that the approved class accounts for less than 1 percent of the total annual enplanements at Great Falls International Airport.

Brief Description of Projects Approved for Collection and Use:

Pavement condition index survey and drainage study.

Snow removal equipment.

Planning studies.

Mobility impaired loading device.

Brief Description of Projects Partially Approved for Collection and Use: Design and construct cargo apron.

Determination: Partially approved. The approved amount represents basic design costs only. The proposed development costs were not approved because this project is not shown on the currently approved airport layout plan an thus do not meet the requirements of § 158.25(c)(1)(ii)(A).

Airport drainage.

Determination: Partially approved. All work except the detention pond is approved. The detention ponds are not shown on the currently approved airport layout plan and thus do not meet the requirements of § 158.25(c)(1)(ii)(A).

Decision Date: December 20, 2001.

For Further Information Contact: David P. Gabbert, Helena Airports District Office, (406) 449-5271.

Public Agency: Port of Pasco, Pasco, Washington.

Application Number: 01-04-C-00-PSC.

Application Type: Impose and use of PFC

PFC Level: $4.50.

Total PFC Revenue Approved in This Decision: $1,059,136.

Earliest Charge Effective Date: December 1, 2002.

Estimated Charge Expiration Date: April 1, 2004.

Class of Air Carriers Not Required to Collect PFC's: None.

Brief Description of Projects Approved for Collection and use:

Snow removal equipment.

Navigation aids.

Runway safety area improvements.

Security access control system.

Runway reconstruction.

Decision Date: December 20, 2001.

For Further Information Contact: Suzanne Lee-Pang, Seattle Airports District Office, (425) 227-2654.

Public Agency: City of Cleveland, Ohio.

Application Number: 01-08-C-00-CLE.

Application Type: Impose and use of PFC.

PFC Level: $3.00.

Total PFC Revenue Approved in This Decision: $82,106,000.

Earliest Charge Effective Date: November 1, 2003.

Estimated Charge Expiration Date: December 1, 2007.

Class of Air Carriers Not Required to Collect PFC's: Air taxis.

Determination: Approved. Based on information contained in the public agency's application, the FAA has determined that the approved class accounts for less then 1 percent of the total annual enplanements at Cleveland Hopkins International Airport.

Brief Description of Projects Approved for Collection and use: Runway 6L/23R (formerly 5L/23R).

Decision Date: December 28, 2001.

For Further Information Contact: Arlene B. Draper, Detroit Airports District Office, (734) 487-7282.

Amendments to PFC Approvals
Amendment No. city, state | Amendment approved date | Original approved net PFC revenue | Amended approved net PFC revenue | Original estimated charge exp. date | Amended estimated charge exp. date
98-03-C-02-TLH, Tallahassee, FL. | 11/8/01 | $6,012,047 | $6,848,703 | 04/01/02 | 10/01/02
00-04-C-01-DLH, Duluth, MN. | 12/03/01 | 577,702 | 651,295 | 02/01/02 | 04/01/02
* 98-01-C-01-MHK, Manhattan, KS. | 12/07/01 | 401,978 | 401,978 | 01/01/04 | 04/01/05
* 99-01-C-01-HGR, Hagerstown, MD. | 12/07/01 | 360,000 | 308,867 | 11/01/03 | 01/01/04
* 99-06-C-02-CLE, Cleveland, OH. | 12/13/01 | 100,101,915 | 100,101,915 | 10/01/04 | 11/01/03
* 93-03-C-02-BPT, Beaumont, TX. | 12/13/01 | 1,607,764 | 1,966,490 | 12/01/03 | 03/01/05
* 00-02-C-02-SWF, Newburgh, NY. | 12/20/01 | 6,308,000 | 6,308,000 | 02/01/05 | 08/01/05
* 99-02-C-01-RST, Rochester, MN. | 12/21/01 | 3,912,987 | 4,771,743 | 12/01/09 | 07/01/07
Note: The amendments denoted by an asterisk (*) include a change to the PCF level charged from $3.00 per enplaned passenger to $4.50 per enplaned passenger. For Manhattan, KS, Hagerstown, MD, Rochester, MN, Newburgh, NY, Cleveland, OH and Beaumont, TX, this change is effective on March 1, 2002.

Issued in Washington, DC, on January 30, 2002.
Barry Molar,
Manager, Airports Financial Assistance Division.

[FR Doc. 02-4202 Filed 2-20-02; 8:45 am]

BILLING CODE 4910-13-M